DEPARTMENT OF TRANSPORTATION

Federal Aviation Administration

14 CFR Part 25

[Docket No.: FAA-2013-0109; Amdt. No. 25-139]

RIN 2120-AK13

Harmonization of Airworthiness Standards—Miscellaneous Structures Requirements

AGENCY: Federal Aviation Administration (FAA), DOT.

ACTION: Final rule.

SUMMARY: This final rule amends certain airworthiness regulations for transport category airplanes, based on recommendations from the FAA-sponsored Aviation Rulemaking Advisory Committee (ARAC). This amendment eliminates regulatory differences between the airworthiness standards of the FAA and the European Aviation Safety Agency (EASA). This final rule does not add new requirements beyond what manufacturers currently meet for EASA certification and does not affect current industry design practices. This final rule revises the structural test requirements necessary when analysis has not been found reliable; clarifies the quality control, inspection, and testing requirements for critical and non-critical castings; adds control system requirements that consider structural deflection and vibration loads; expands the fuel tank structural and system requirements regarding emergency landing conditions and landing gear failure conditions; adds a requirement that engine mount failure due to overload must not cause hazardous fuel spillage; and revises the inertia forces requirements for cargo compartments by removing the exclusion of compartments located below or forward of all occupants in the airplane.

DATES: Effective December 1, 2014.

ADDRESSES: For information on where to obtain copies of rulemaking documents and other information related to this final rule, see “How to Obtain Additional Information” in the SUPPLEMENTARY INFORMATION section of this document.

FOR FURTHER INFORMATION CONTACT: For technical questions concerning this action, contact Todd Martin, Airframe and Cabin Safety Branch, ANM-115, Transport Airplane Directorate, Aircraft Certification Service, Federal Aviation Administration, 1601 Lind Avenue SW., Renton, WA 98057-3356; telephone (425) 227-1178; facsimile (425) 227-1232; email Todd.Martin@faa.gov.

For legal questions concerning this action, contact Sean Howe, Office of the Regional Counsel, ANM-7, Federal Aviation Administration, 1601 Lind Avenue SW., Renton, Washington 98057-3356; telephone (425) 227-2591; facsimile (425) 227-1007; email Sean.Howe@faa.gov.

SUPPLEMENTARY INFORMATION:

Authority for This Rulemaking

The FAA's authority to issue rules on aviation safety is found in Title 49 of the United States Code. Subtitle I, Section 106 describes the authority of the FAA Administrator. Subtitle VII, Aviation Programs, describes in more detail the scope of the agency's authority.

This rulemaking is promulgated under the authority described in Subtitle VII, Part A, Subpart III, Section 44701, “General Requirements.” Under that section, the FAA is charged with promoting safe flight of civil aircraft in air commerce by prescribing regulations and minimum standards for the design and performance of aircraft that the Administrator finds necessary for safety in air commerce. This regulation is within the scope of that authority. It prescribes new safety standards for the design of transport category airplanes.

I. Overview of Final Rule

The FAA is amending Title 14, Code of Federal Regulations (14 CFR) 25.307(a), 25.621, 25.683, 25.721, 25.787(a), 25.963(d), and 25.994 as described below. This action harmonizes part 25 requirements with the corresponding requirements in Book 1 of the EASA Certification Specifications and Acceptable Means of Compliance for Large Aeroplanes (CS-25).

1. Section 25.307(a), “Proof of structure,” currently requires structural strength testing, unless the applicant has demonstrated that analysis alone is reliable. Paragraph (a) is revised to clarify the load levels to which testing is required, when such testing is required.

2. Section 25.621, “Casting factors,” is revised to clarify the quality control, inspection, and testing requirements for critical and non-critical castings.

3. Section 25.683, “Operation tests,” is revised to add a requirement that—

• The control system must remain free from jamming, friction, disconnection, and permanent damage in the presence of structural deflection and

• Under vibration loads, no hazard may result from interference or contact of the control system with adjacent elements.

4. Section 25.721, “Landing Gear—General,” is revised to—

• Expand the landing gear failure conditions to include side loads, in addition to up and aft loads, and expand this requirement to include nose landing gear in addition to the main landing gear,

• Specify that the wheels-up landing conditions are assumed to occur at a descent rate of 5 feet per second,

• Add a sliding-on-ground condition, and

• Require the engine mount be designed so that, when it fails due to overload, this failure does not cause the spillage of enough fuel to constitute a fire hazard.

5. Section 25.787, “Stowage compartments,” is revised to expand the inertia forces requirements for cargo compartments by removing the exclusion of compartments located below or forward of all occupants in the airplane.

6. Section 25.963, “Fuel tanks: general,” is revised to—

• Require that fuel tanks be designed so that no fuel is released in or near the fuselage, or near the engines, in quantities that would constitute a fire hazard in otherwise survivable emergency landing conditions,

• Define fuel tank pressure loads for fuel tanks located within and outside the fuselage pressure boundary and near the fuselage or near the engines, and

• Specify the wheels-up landing conditions and landing gear and engine mount failure conditions that must be considered when evaluating fuel tank structural integrity.

7. Section 25.994, “Fuel system components,” is revised to specify the wheels-up landing conditions to be considered when evaluating fuel system components.

II. Background

A. Statement of the Problem

Part 25 of 14 CFR prescribes airworthiness standards for type certification of transport category airplanes, for products certified in the United States. EASA CS-25 Book 1 prescribes the corresponding airworthiness standards for products certified in Europe. While part 25 and CS-25 Book 1 are similar, they differ in several respects. To resolve those differences, the FAA tasked ARAC through the Loads and Dynamics Harmonization Working Group (LDHWG) and the General Structures Harmonization Working Group (GSHWG) to review existing structures regulations and recommend changes that would eliminate differences between the U.S. and European airworthiness standards. The LDHWG and GSHWG developed recommendations, which EASA has incorporated into CS-25 with some changes. The FAA agrees with the ARAC recommendations as adopted by EASA, and this final rule amends part 25 accordingly.

B. Summary of the NPRM

On February 14, 2013, the FAA issued a Notice of Proposed Rulemaking (NPRM), Notice No. 25-137, Docket No. FAA-2013-0109, to amend §§ 25.307(a), 25.621, 25.683, 25.721, 25.787(a), 25.963(d), and 25.994. That NPRM was published in the Federal Register on March 1, 2013 (78 FR 13835). (The NPRM Notice No. was corrected to “13-03” in the Federal Register on April 16, 2014 (79 FR 21413)). In the NPRM, the FAA proposed to (1) revise the structural test requirements necessary when analysis has not been found reliable; (2) clarify the quality control, inspection, and testing requirements for critical and non-critical castings; (3) add control system requirements that consider structural deflection and vibration loads; (4) expand the fuel tank structural and system requirements regarding emergency landing conditions and landing gear failure conditions; (5) add a requirement that engine mount failure due to overload must not cause hazardous fuel spillage; and (6) revise the inertial forces requirements for cargo compartments by removing the exclusion of compartments located below or forward of all occupants in the airplane. The FAA proposed these changes to eliminate regulatory differences between the airworthiness standards of the FAA and EASA. The NPRM comment period closed on May 30, 2013.

C. General Overview of Comments

The FAA received 16 comments from 5 commenters. All commenters generally support the proposal, but they suggested changes discussed more fully below. The FAA received comments on each of the sections being changed, as follows:

• Section 25.307(a)—four comments

• Section 25.621—four comments

• Section 25.683—one comment

• Section 25.721—one comment

• Section 25.787(a)—two comments

• Section 25.963(d)—three comments

• Section 25.994—one comment

III. Discussion of Public Comments and Final Rule

A. Section 25.307, Proof of Structure

In the NPRM, the FAA proposed revising paragraph (a) of § 25.307 to require that, when structural analysis has not been shown to be reliable, substantiating tests must be made to load levels that are sufficient to verify structural behavior up to limit and ultimate loads of § 25.305.

One commenter stated that § 25.305 includes both limit and ultimate loads, so it is unclear which “loads” were intended by this change. More importantly, “up to” could mean any load level below limit or below ultimate and as such is indefinite. For example, an applicant could choose a load level of 10 percent of limit load and be in compliance with the proposed rule. The commenter proposed changing “up to loads specified in § 25.305” to “at least limit load as specified in § 25.305.”

The FAA believes the wording proposed in the NPRM is correct, and no change is necessary. The phrase “up to” does not apply to the test load level; it applies to the design load level—the loads specified in § 25.305, including ultimate loads—which must be verified. The intent of the rule is that, when analysis has not been shown to be reliable, tests must be conducted to “sufficient” load levels. Normally, testing to ultimate load levels is required, but when previous relevant test evidence can be used to support the analysis, a lower level of testing may be accepted. The rule allows this intermediate level of testing. Advisory Circular (AC) 25.307-1, “Proof of Structure,” which the FAA is issuing concurrently with the final rule, provides detailed guidance on means of compliance with the rule.

Another commenter recommended changing the word “reliable” in the proposed rule to “dependable and conservative.” The term “reliable” has been in place since this rule was originally published in 1965. As stated in the NPRM, while the rule has changed, the rule intent remains the same. We believe “reliable” is appropriate and clear, and no change is necessary.

The same commenter also recommended noting that, where justified, test load levels may be less than ultimate. We do not believe this change is necessary because it is already expressed in the rule that substantiating tests must be made to load levels that are sufficient to verify structural behavior up to loads specified in § 25.305.

The same commenter also recommended the FAA add further explanation about the absolute need to validate models and when lack of validation might be acceptable. We do not believe it is necessary to revise the rule to address validation, since that subject relates to the acceptability of an applicant's showing of compliance rather than to the airworthiness standard itself. This subject is thoroughly addressed in the accompanying AC 25.307-1. We have not revised the final rule in this regard.

B. Section 25.621, Casting Factors

With this rulemaking, the FAA clarifies “critical castings” as each casting whose failure could preclude continued safe flight and landing of the airplane or could result in serious injury to occupants. One commenter agreed that improved foundry methods have resulted in higher quality castings but not to the point where a casting factor less than 1.25 is justified. The commenter recommended to either (1) eliminate the option for casting factors of 1.0 for critical castings, or (2) ensure that the characterization of material properties that are equivalent to those of wrought alloy products of similar composition includes the effect of defects in the static strength, fatigue, and damage tolerance requirements. The commenter provided the following examples of defects that could affect material properties: shell defects, hard-alpha contamination, shrink, porosity, weld defects, grain size, hot tears, incomplete densifications, and prior particle boundaries, among others.

The FAA does not agree with the commenter's first recommendation to eliminate the option for using a casting factor of 1.0 for critical castings. The criteria specified in the final rule will ensure product quality that is sufficient to justify using a casting factor of 1.0. According to the rule, to qualify for a casting factor of 1.0, the applicant must demonstrate, through process qualification, proof of product, and process monitoring, that the casting has coefficients of variation of the material properties that are equivalent to those of wrought alloy products of similar composition. The rule requires process monitoring that includes testing of coupons and, on a sampling basis, coupons cut from critical areas of production castings. In addition, the applicant must inspect 100 percent of the casting surface of each casting, as well as structurally significant internal areas and areas where defects are likely to occur. The applicant must also test one casting to limit and ultimate loads. The purpose of the minimum casting factor of 1.25 in the current rule is to increase the strength of the casting to account for variability in the casting process. In the final rule, the additional process, inspection, and test requirements required to use a casting factor less than 1.25 ensure a more consistent product and maintain the same level of safety as the existing standards. AC 25.621-1, “Casting Factors,” provides detailed guidance on the premium casting process necessary to allow a casting factor of 1.0, and the FAA is issuing that AC concurrently with this final rule.

The FAA partially agrees with the commenter's second recommendation, which is to ensure that the characterization of material properties that are equivalent to those of wrought alloy products of similar composition includes the effect of defects in the static strength, fatigue, and damage tolerance requirements. The rule requires that the characterization of material properties includes the effect of defects with regard to static strength. If any type of defect is discovered during process qualification, proof of product, or process monitoring, or by any inspection or static strength test, such that the coefficients of variation of the material properties are not equivalent to those of wrought alloy products of similar composition, then that casting would not qualify for a casting factor of 1.0. These defects include each of the examples identified by the commenter, as well as any other type of defect that could affect material properties. In addition, as noted previously, AC 25.621-1, which the FAA is issuing concurrently with the final rule, provides detailed guidance on the premium casting process necessary to allow a casting factor of 1.0. The AC includes reference to and addresses defects as proposed by the commenter.

We do not, however, agree that the characterization of material properties to determine the appropriate casting factor should include the effect of defects on fatigue and damage tolerance properties. Since casting factors apply only to strength requirements, rather than fatigue and damage tolerance requirements, the comparison of cast material to wrought material should only be based on material strength properties, rather than fatigue and damage tolerance characteristics.

Section 25.621(c)(2)(ii)(B) specifies a factor of 1.15 be applied to limit load test values to allow an applicant to use a casting factor of 1.25. Section 25.621(c)(3)(ii)(B) also specifies a factor of 1.15 be applied to limit load test values to allow a casting factor of 1.5. One commenter recommended that the 1.15 test factor in § 25.621(c)(3)(ii)(B) be scaled up by a factor of 1.2 (1.5/1.25), so as to align with the corresponding ultimate requirement. The 1.15 limit load test factor in § 25.621(c)(3)(ii)(B) would then be 1.38 (i.e., 1.5/1.25 × 1.15; 1.15 being required already in conjunction with the 1.25 casting factor for ultimate).

The FAA does not agree that for critical castings with a casting factor of 1.25 or 1.5, the limit load test factor should be linked to the ultimate load test factor. The ultimate and limit load tests have different purposes. The ultimate load test confirms ultimate load capability, while the limit load test confirms that no deformation will occur up to a much lower load level. Therefore, we see no reason to link the two test factors, and we believe the 1.15 factor specified in § 25.621(c)(3)(ii)(B) is appropriate, as recommended by ARAC and as currently specified in EASA CS 25.621.

The same commenter recommended modifying § 25.621(c) by adding a reference to § 25.305 for clarity—that each critical casting must have a factor associated with it for showing compliance with the strength and deformation requirement “of § 25.305.” We agree and have revised the final rule as recommended.

The same commenter noted that § 25.621 only refers to static testing and does not include any requirements for fatigue testing. The commenter stated that critical castings should also comply with § 25.571 concerning fatigue and damage tolerance. The commenter recommended including information to remind manufacturers of this requirement. The FAA agrees with the commenter that § 25.571 applies to critical castings. We believe the current wording in § 25.571 and the new wording in § 25.621 is sufficiently clear on this point, and no changes to these requirements are necessary.

No other public comments were received on § 25.621. However, after further FAA review, we revised the rule in several places to specify “visual inspection and liquid penetrant or equivalent inspection methods.” This change is to clarify “equivalent inspection methods” refers to the liquid penetrant inspection, and not the visual inspection. Although there is some textual difference between this and CS 25.621, there is no substantive difference between the two harmonized rules.

C. Section 25.683, Operation Tests

A commenter noted that the control systems to which § 25.683(b) applies are those control systems that obtain the pitch, roll, and yaw limit maneuver loads of the airplane structure. For example, an applicant must take into account the elevator, rudder, and aileron because these control surfaces obtain the referenced maneuver loads, while high lift systems do not need to be considered under § 25.683(b). The commenter suggested that we clarify this in the preamble to the final rule. The FAA agrees and hereby clarifies that § 25.683 only applies to those control systems that are loaded to obtain the specified maneuver loads. No change to the final rule text is necessary.

No other public comments were received on § 25.683. We would like to explain what is meant by “where necessary” as used in § 25.683(b). The rule states: “It must be shown by analysis and, where necessary, by tests, that in the presence of deflections of the airplane structure,” the control system operates without jamming, excessive friction, or permanent damage. The FAA may accept analysis alone to comply with this requirement. However, the FAA or the applicant may determine that, in certain cases, some testing is necessary to verify the analysis. For example, some testing may be necessary if the structure or control system is significantly more complex than a previous design, or if the analysis shows areas where the control system could be susceptible to jamming, friction, disconnection or damage. Testing may include component testing or full-scale tests.

D. Section 25.721, Landing Gear—General

A commenter proposed to add a paragraph (d) to § 25.721 to state that the conditions in paragraphs (a) through (c) must be considered regardless of the corresponding probabilities. The FAA does not believe this addition is necessary. The various failure conditions in the rule are stated directly, and the FAA intended no implication that the probability of these failure conditions may be taken into account. However, because the FAA proposed that a failure mode not be likely to cause the spillage of enough fuel to constitute a fire hazard, the proposal may have implied that an applicant should take probability into account to determine whether the failure conditions would lead to fuel spillage. The FAA did not intend this. Probability should not be taken into account to determine whether the failure mode will lead to fuel spillage.

No other public comments were received on § 25.721. However, after further FAA review, we revised § 25.721(b) to clarify its intent. We removed the phrase “as separate conditions,” which was proposed in § 25.721(b)(1)(i) and (b)(2)(i), because we believe that phrase is confusing. In § 25.721(b)(1)(ii) and (b)(2)(ii), we also changed the proposed phrase “any other combination of landing gear legs not extended” to “any one or more landing gear legs not extended” which is the same phrase used in § 25.721(b) at Amendment 25-32. We made this change to ensure that applicants are required to address every possible combination of landing gear legs not extended, including single landing gear legs not extended. This is consistent with the way EASA has applied its rule.

Both §§ 25.721(b) and 25.994 final rules use the phrase “wheels-up landing.” This phrase has been used in § 25.994 since that rule was adopted at Amendment 25-23. A “wheels-up landing” includes every possible combination of landing gear legs not extended, including single landing gear legs not extended, and all gears fully retracted.

E. Section 25.787, Stowage Compartments

To date, § 25.787(a) has required that cargo compartments be designed to the emergency landing conditions of § 25.561(b), but excluded compartments located below or forward of all occupants in the airplane. The FAA now revises § 25.787(a) to include compartments located below or forward of all occupants in the airplane. This change would ensure that, in these compartments, inertia forces in the up and aft direction will not injure passengers, and inertia forces in any direction will not cause penetration of fuel tanks or lines, or cause other hazards.

A commenter recommended revising the text to clarify that only those specific emergency landing conditions that would result in one of the three listed effects need to be considered. The FAA agrees, and we have revised the text to clarify this intent.

The same commenter suggested that fires only need to be protected against if they can result in injury to occupants, and the rule text should be revised to clarify that intent. The FAA does not agree that fires only need to be protected against if they can result in injury to occupants. The FAA believes that the wording proposed in the NPRM is correct, and no change is necessary. The requirement intends protection against any fire or explosion on the airplane. Although the FAA agrees the objective of the rule is to prevent injuries to occupants, the FAA considers any fuel tank fire or explosion in an otherwise survivable landing as potentially injury-causing.

F. Section 25.963, Fuel Tanks: General

One commenter suggested that exactly the same wording be used in § 25.963(d) and CS 25.963(d). EASA CS 25.963(d) requires that no fuel be released in quantities “sufficient to start a serious fire” in otherwise survivable emergency landing conditions. Proposed § 25.963(d) would have required that no fuel be released in quantities “that would constitute a fire hazard.” The FAA stated in the NPRM that the two phrases have the same meaning, and that proposed § 25.963(d) was more consistent with the wording of the other related sections.

The FAA is adopting the wording proposed in the NPRM as more appropriate. As noted in the NPRM, the two phrases have the same meaning, and the latter phrase is consistent with the wording in CS 25.721/§ 25.721, CS 25.963(d)(4)/§ 25.963(d)(4), and CS 25.994/§ 25.994. In addition, EASA agrees with and supports the NPRM. In recent special conditions, the FAA has defined a hazardous fuel leak as “a running leak, a dripping leak, or a leak that, 15 minutes after wiping dry, results in a wetted airplane surface exceeding 6 inches in length or diameter.” We regard this as an appropriate definition of the amount of fuel that would “constitute a fire hazard” as specified in §§ 25.721, 25.963, and 25.994.

Another commenter suggested modifying § 25.963(d)(5) to reference landing gear before engine mounts in the rule text, since these are referred to respectively in § 25.721(a) and (c). The FAA agrees and the recommended change has been made.

EASA CS 25.963(e)(2) provides the fire protection criteria for fuel tank access covers. A commenter recommended that § 25.963(e)(2) be revised to match CS 25.963(e)(2), which the commenter believes is clearer. The FAA notes that this paragraph was not addressed in the NPRM and so will not be addressed in this final rule. The FAA might consider harmonizing this paragraph in the future.

No other public comments were received on § 25.963. However, after further FAA review, we determined that further explanation of the various requirements in § 25.963(d) would be beneficial. Section 25.963(d), as revised by Amendment 25-**, requires that “Fuel tanks must, so far as it is practicable, be designed, located, and installed so that no fuel is released in or near the fuselage, or near the engines, in quantities that would constitute a fire hazard in otherwise survivable emergency landing conditions. . . .” In addition to this primary requirement, § 25.963(d)(1) through (d)(5) provide minimum quantitative criteria. Survivable landing conditions may occur that exceed, or are not captured by, the conditions specified in § 25.963(d)(1) through (d)(5). Therefore, to meet the introductory requirement in § 25.963(d), every practicable consideration should be made to ensure protection of fuel tanks in more severe crash conditions, especially tanks located in the fuselage below the main cabin floor.

The fuel tank pressure loads specified in § 25.963(d) vary depending on whether the fuel tank is within or outside the pressure boundary. For certification of unpressurized airplanes, all fuel tanks should be considered to be “within” the fuselage pressure boundary, unless a fire resistant barrier exists between the fuel tank and the occupied compartments of the airplane.

Finally, the FAA notes that, for future rulemaking, we plan to consider specific crashworthiness requirements that would exceed the quantitative criteria specified in §§ 25.561, 25.721, and 25.963. Also, the FAA has recently applied special conditions on certain airplanes that require a crashworthiness evaluation at descent rates up to 30 feet per second.

G. Section 25.994, Fuel System Components

To date, § 25.994 has required that fuel system components in an engine nacelle or in the fuselage be protected from damage that could result in spillage of enough fuel to constitute a fire hazard as a result of a wheels-up landing on a paved runway. We proposed to revise § 25.994 to specify that the wheels-up landing conditions that must be considered are those prescribed in § 25.721(b).

A commenter proposed two changes to what the FAA proposed: (1) Add a reference to § 25.721(c), and (2) change the order in which the nacelles and the fuselage are referenced, based on the order the fuselage and nacelle are addressed in § 25.721. We do not agree with the proposed changes. Adding a reference to § 25.721(c) would not be correct because wheels-up landing conditions are only listed in § 25.721(b). Since § 25.721(c) is not referenced in § 25.994, and since § 25.721(b) does not refer to the fuselage or nacelles, there is no reason to change the order in which the fuselage and nacelles are specified in § 25.994.

H. Advisory Material

On March 13, 2013, the FAA published and solicited public comments on three proposed ACs that describe acceptable means for showing compliance with the proposed regulations in the NPRM. The comment period for the proposed ACs closed on June 14, 2013. Concurrently with this final rule, the FAA is issuing the following new ACs to provide guidance material for the regulations adopted by this amendment:

• AC 25-30, “Fuel Tank Strength in Emergency Landing Conditions.” (AC 25-30 would provide guidance for the fuel tank structural integrity requirements of §§ 25.561, 25.721, and 25.963.)

• AC 25.307-1, “Proof of Structure.”

• AC 25.621-1, “Casting Factors.”

IV. Regulatory Notices and Analyses

A. Regulatory Evaluation

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule.

Department of Transportation Order DOT 2100.5 prescribes policies and procedures for simplification, analysis, and review of regulations. If the expected cost impact is so minimal that a proposed or final rule does not warrant a full evaluation, this order permits that a statement to that effect and the basis for it be included in the preamble if a full regulatory evaluation of the cost and benefits is not prepared. Such a determination has been made for this final rule. The reasoning for this determination follows.

The FAA is amending certain airworthiness standards for transport category airplanes. Adopting this final rule would eliminate regulatory differences between the airworthiness standards of the FAA and the EASA. This final rule does not add new requirements as U.S. manufacturers currently meet EASA requirements. Meeting two sets of certification requirements imposes greater costs for developing new transport category airplanes with little to no increase in safety. In the interest of fostering international trade, lowering the cost of manufacturing new transport category airplanes, and making the certification process more efficient, the FAA, EASA, and several industry working groups came together to create, to the maximum extent possible, a single set of certification requirements that would be accepted in both the United States and Europe. Therefore, as a result of these harmonization efforts, the FAA is amending the airworthiness regulations described in section I of this final rule, “Overview of the Final Rule.” This action harmonizes part 25 requirements with the corresponding requirements in EASA CS-25 Book 1.

In order to sell their aircraft in Europe, all manufacturers of transport category airplanes, certificated under part 25 must be in compliance with the EASA certification requirements in CS-25 Book 1. Since future certificated transport airplanes are expected to meet CS-25 Book 1, and this rule simply adopts the same EASA requirements, manufacturers will incur minimal or no additional cost resulting from this final rule. Therefore, the FAA estimates that there are no additional costs associated with this final rule.

In fact, manufacturers could receive cost savings because they will not have to build and certificate transport category airplanes to two different authorities' certification specifications and rules. Further, harmonization of these airworthiness standards, specifically § 25.621 may benefit manufacturers by providing another option in developing aircraft structures. The final rule permits use of a lower casting factor for critical castings, provided that tight controls are established for the casting process, inspection, and testing, which lead to cost savings in terms of aircraft weight. These additional controls are expected to at least maintain an equivalent level of safety as provided by existing regulations for casting factors.

The FAA has not attempted to quantify the cost savings that may accrue from this final rule, beyond noting that, while they may be minimal, they contribute overall to a potential harmonization savings. The agency concludes that because the compliance cost for this final rule is minimal and there may be harmonization cost savings, further analysis is not required.

During the public comment period, the Agency received 16 comments from 5 commenters. There were no comments regarding costs to this final rule; however, one commenter raised concern for safety in § 25.621. Details of this comment and the FAA's response can be found in the “General Overview of Comments” section. These harmonization efforts ensure that the current level of safety in transport category airplanes is maintained while encouraging the use of modern casting process technology.

The agency concludes that the changes would eliminate regulatory differences between the airworthiness standards of the FAA and EASA resulting in potential cost savings and maintaining current levels of safety. The FAA has, therefore, determined that this final rule is not a “significant regulatory action” as defined in section 3(f) of Executive Order 12866, and is not “significant” as defined in DOT's Regulatory Policies and Procedures.

B. Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify, and a regulatory flexibility analysis is not required. The certification must include a statement providing the factual basis for this determination, and the reasoning should be clear.

The FAA believes that this final rule does not have a significant economic impact on a substantial number of small entities for the following reasons. The net effect of this final rule is minimum regulatory cost relief, as the rule would adopt EASA requirements that the industry already meets. Further, all United States transport category aircraft manufacturers exceed the Small Business Administration small-entity criteria of 1,500 employees. The Agency received no comments regarding the Regulatory Flexibility Act during the public comment period.

If an agency determines that a rulemaking will not result in a significant economic impact on a substantial number of small entities, the head of the agency may so certify under section 605(b) of the RFA. Therefore, as provided in section 605(b), the head of the FAA certifies that this rulemaking will not result in a significant economic impact on a substantial number of small entities.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such the protection of safety, and does not operate in a manner that excludes imports that meet this objective. The statute also requires consideration of international standards and, where appropriate, that they be the basis for U.S. standards. The FAA has assessed the potential effect of this final rule and determined that it is in accord with the Trade Agreements Act as the final rule uses European standards as the basis for United States regulation.

D. Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $151 million in lieu of $100 million. This final rule does not contain such a mandate; therefore, the requirements of Title II of the Act do not apply.

E. Paperwork Reduction Act

The Paperwork Reduction Act of 1995 (44 U.S.C. 3507(d)) requires that the FAA consider the impact of paperwork and other information collection burdens imposed on the public. The FAA has determined that there would be no new requirement for information collection associated with this final rule.

F. International Compatibility and Cooperation

(1) In keeping with U.S. obligations under the Convention on International Civil Aviation, it is FAA policy to conform to International Civil Aviation Organization (ICAO) Standards and Recommended Practices to the maximum extent practicable. The FAA has reviewed the corresponding ICAO Standards and Recommended Practices and has identified no differences with these regulations.

(2) Executive Order (EO) 13609, Promoting International Regulatory Cooperation, (77 FR 26413, May 4, 2012) promotes international regulatory cooperation to meet shared challenges involving health, safety, labor, security, environmental, and other issues and reduce, eliminate, or prevent unnecessary differences in regulatory requirements. The FAA has analyzed this action under the policy and agency responsibilities of Executive Order 13609, Promoting International Regulatory Cooperation. The agency has determined that this action would eliminate differences between U.S. aviation standards and those of other civil aviation authorities by creating a single set of certification requirements for transport category airplanes that would be acceptable in both the United States and Europe.

G. Environmental Analysis

FAA Order 1050.1E identifies FAA actions that are categorically excluded from preparation of an environmental assessment or environmental impact statement under the National Environmental Policy Act in the absence of extraordinary circumstances. The FAA has determined this rulemaking action qualifies for the categorical exclusion identified in paragraph 312f of Order 1050.1E and involves no extraordinary circumstances.

V. Executive Order Determinations

A. Executive Order 13132, Federalism

The FAA has analyzed this final rule under the principles and criteria of Executive Order 13132, Federalism. The agency determined that this action will not have a substantial direct effect on the States, or the relationship between the Federal Government and the States, or on the distribution of power and responsibilities among the various levels of government, and, therefore, does not have Federalism implications.

B. Executive Order 13211, Regulations That Significantly Affect Energy Supply, Distribution, or Use

The FAA analyzed this final rule under Executive Order 13211, Actions Concerning Regulations that Significantly Affect Energy Supply, Distribution, or Use (May 18, 2001). The agency has determined that it is not a “significant energy action” under the executive order and it is not likely to have a significant adverse effect on the supply, distribution, or use of energy.

VI. How To Obtain Additional Information

A. Rulemaking Documents

An electronic copy of a rulemaking document may be obtained by using the Internet—

1. Search the Federal eRulemaking Portal (http://www.regulations.gov),

2. Visit the FAA's Regulations and Policies Web page at http://www.faa.gov/regulations_policies/, or

3. Access the Government Printing Office's Web page at http://www.gpo.gov/fdsys/.

Copies may also be obtained by sending a request (identified by notice, amendment, or docket number of this rulemaking) to the Federal Aviation Administration, Office of Rulemaking, ARM-1, 800 Independence Avenue SW., Washington, DC 20591; or by calling (202) 267-9680.

B. Comments Submitted to the Docket

Comments received may be viewed by going to http://www.regulations.gov and following the online instructions to search the docket number for this action. Anyone is able to search the electronic form of all comments received into any of the FAA's dockets by the name of the individual submitting the comment (or signing the comment, if submitted on behalf of an association, business, labor union, etc.).

C. Small Business Regulatory Enforcement Fairness Act

The Small Business Regulatory Enforcement Fairness Act (SBREFA) of 1996 requires the FAA to comply with small entity requests for information or advice about compliance with statutes and regulations within its jurisdiction. A small entity with questions regarding this document, may contact its local FAA official, or the person listed under the FOR FURTHER INFORMATION CONTACT heading at the beginning of the preamble. To find out more about SBREFA on the Internet, visit http://www.faa.gov/regulations_policies/rulemaking/sbre_act/.

List of Subjects in 14 CFR Part 25

Aircraft, Aviation safety, Reporting and recordkeeping requirements.

The Amendment

In consideration of the foregoing, the Federal Aviation Administration amends chapter I of title 14, Code of Federal Regulations, as follows:

PART 25—AIRWORTHINESS STANDARDS: TRANSPORT CATEGORY AIRPLANES

1. The authority citation for part 25 continues to read as follows:

Authority: 49 U.S.C. 106(g), 40113, 44701, 44702, and 44704.

2. Amend § 25.307 by revising paragraph (a) to read as follows:

§ 25.307 Proof of structure.

(a) Compliance with the strength and deformation requirements of this subpart must be shown for each critical loading condition. Structural analysis may be used only if the structure conforms to that for which experience has shown this method to be reliable. In other cases, substantiating tests must be made to load levels that are sufficient to verify structural behavior up to loads specified in § 25.305.

* * * * *

3. Amend § 25.621 by revising paragraphs (a), (c), and (d) to read as follows:

§ 25.621 Casting factors.

(a) General. For castings used in structural applications, the factors, tests, and inspections specified in paragraphs (b) through (d) of this section must be applied in addition to those necessary to establish foundry quality control. The inspections must meet approved specifications. Paragraphs (c) and (d) of this section apply to any structural castings, except castings that are pressure tested as parts of hydraulic or other fluid systems and do not support structural loads.

* * * * *

(c) Critical castings. Each casting whose failure could preclude continued safe flight and landing of the airplane or could result in serious injury to occupants is a critical casting. Each critical casting must have a factor associated with it for showing compliance with strength and deformation requirements of § 25.305, and must comply with the following criteria associated with that factor:

(1) A casting factor of 1.0 or greater may be used, provided that—

(i) It is demonstrated, in the form of process qualification, proof of product, and process monitoring that, for each casting design and part number, the castings produced by each foundry and process combination have coefficients of variation of the material properties that are equivalent to those of wrought alloy products of similar composition. Process monitoring must include testing of coupons cut from the prolongations of each casting (or each set of castings, if produced from a single pour into a single mold in a runner system) and, on a sampling basis, coupons cut from critical areas of production castings. The acceptance criteria for the process monitoring inspections and tests must be established and included in the process specifications to ensure the properties of the production castings are controlled to within levels used in design.

(ii) Each casting receives:

(A) Inspection of 100 percent of its surface, using visual inspection and liquid penetrant or equivalent inspection methods; and

(B) Inspection of structurally significant internal areas and areas where defects are likely to occur, using radiographic or equivalent inspection methods.

(iii) One casting undergoes a static test and is shown to meet the strength and deformation requirements of § 25.305(a) and (b).

(2) A casting factor of 1.25 or greater may be used, provided that—

(i) Each casting receives:

(A) Inspection of 100 percent of its surface, using visual inspection and liquid penetrant or equivalent inspection methods; and

(B) Inspection of structurally significant internal areas and areas where defects are likely to occur, using radiographic or equivalent inspection methods.

(ii) Three castings undergo static tests and are shown to meet:

(A) The strength requirements of § 25.305(b) at an ultimate load corresponding to a casting factor of 1.25; and

(B) The deformation requirements of § 25.305(a) at a load of 1.15 times the limit load.

(3) A casting factor of 1.50 or greater may be used, provided that—

(i) Each casting receives:

(A) Inspection of 100 percent of its surface, using visual inspection and liquid penetrant or equivalent inspection methods; and

(B) Inspection of structurally significant internal areas and areas where defects are likely to occur, using radiographic or equivalent inspection methods.

(ii) One casting undergoes a static test and is shown to meet:

(A) The strength requirements of § 25.305(b) at an ultimate load corresponding to a casting factor of 1.50; and

(B) The deformation requirements of § 25.305(a) at a load of 1.15 times the limit load.

(d) Non-critical castings. For each casting other than critical castings, as specified in paragraph (c) of this section, the following apply:

(1) A casting factor of 1.0 or greater may be used, provided that the requirements of (c)(1) of this section are met, or all of the following conditions are met:

(i) Castings are manufactured to approved specifications that specify the minimum mechanical properties of the material in the casting and provides for demonstration of these properties by testing of coupons cut from the castings on a sampling basis.

(ii) Each casting receives:

(A) Inspection of 100 percent of its surface, using visual inspection and liquid penetrant or equivalent inspection methods; and

(B) Inspection of structurally significant internal areas and areas where defects are likely to occur, using radiographic or equivalent inspection methods.

(iii) Three sample castings undergo static tests and are shown to meet the strength and deformation requirements of § 25.305(a) and (b).

(2) A casting factor of 1.25 or greater may be used, provided that each casting receives:

(i) Inspection of 100 percent of its surface, using visual inspection and liquid penetrant or equivalent inspection methods; and

(ii) Inspection of structurally significant internal areas and areas where defects are likely to occur, using radiographic or equivalent inspection methods.

(3) A casting factor of 1.5 or greater may be used, provided that each casting receives inspection of 100 percent of its surface using visual inspection and liquid penetrant or equivalent inspection methods.

(4) A casting factor of 2.0 or greater may be used, provided that each casting receives inspection of 100 percent of its surface using visual inspection methods.

(5) The number of castings per production batch to be inspected by non-visual methods in accordance with paragraphs (d)(2) and (3) of this section may be reduced when an approved quality control procedure is established.

4. Revise § 25.683 to read as follows:

§ 25.683 Operation tests.

(a) It must be shown by operation tests that when portions of the control system subject to pilot effort loads are loaded to 80 percent of the limit load specified for the system and the powered portions of the control system are loaded to the maximum load expected in normal operation, the system is free from—

(1) Jamming;

(2) Excessive friction; and

(3) Excessive deflection.

(b) It must be shown by analysis and, where necessary, by tests, that in the presence of deflections of the airplane structure due to the separate application of pitch, roll, and yaw limit maneuver loads, the control system, when loaded to obtain these limit loads and operated within its operational range of deflections, can be exercised about all control axes and remain free from—

(1) Jamming;

(2) Excessive friction;

(3) Disconnection; and

(4) Any form of permanent damage.

(c) It must be shown that under vibration loads in the normal flight and ground operating conditions, no hazard can result from interference or contact with adjacent elements.

5. Revise § 25.721 to read as follows:

§ 25.721 General.

(a) The landing gear system must be designed so that when it fails due to overloads during takeoff and landing, the failure mode is not likely to cause spillage of enough fuel to constitute a fire hazard. The overloads must be assumed to act in the upward and aft directions in combination with side loads acting inboard and outboard. In the absence of a more rational analysis, the side loads must be assumed to be up to 20 percent of the vertical load or 20 percent of the drag load, whichever is greater.

(b) The airplane must be designed to avoid any rupture leading to the spillage of enough fuel to constitute a fire hazard as a result of a wheels-up landing on a paved runway, under the following minor crash landing conditions:

(1) Impact at 5 feet-per-second vertical velocity, with the airplane under control, at Maximum Design Landing Weight—

(i) With the landing gear fully retracted; and

(ii) With any one or more landing gear legs not extended.

(2) Sliding on the ground, with—

(i) The landing gear fully retracted and with up to a 20° yaw angle; and

(ii) Any one or more landing gear legs not extended and with 0° yaw angle.

(c) For configurations where the engine nacelle is likely to come into contact with the ground, the engine pylon or engine mounting must be designed so that when it fails due to overloads (assuming the overloads to act predominantly in the upward direction and separately, predominantly in the aft direction), the failure mode is not likely to cause the spillage of enough fuel to constitute a fire hazard.

6. Amend § 25.787 by revising paragraph (a) to read as follows:

§ 25.787 Stowage compartments.

(a) Each compartment for the stowage of cargo, baggage, carry-on articles, and equipment (such as life rafts), and any other stowage compartment, must be designed for its placarded maximum weight of contents and for the critical load distribution at the appropriate maximum load factors corresponding to the specified flight and ground load conditions, and to those emergency landing conditions of § 25.561(b)(3) for which the breaking loose of the contents of such compartments in the specified direction could—

(1) Cause direct injury to occupants;

(2) Penetrate fuel tanks or lines or cause fire or explosion hazard by damage to adjacent systems; or

(3) Nullify any of the escape facilities provided for use after an emergency landing.

If the airplane has a passenger-seating configuration, excluding pilot seats, of 10 seats or more, each stowage compartment in the passenger cabin, except for under seat and overhead compartments for passenger convenience, must be completely enclosed.

* * * * *

7. Amend § 25.963 by revising paragraph (d) to read as follows:

§ 25.963 Fuel tanks: general.

* * * * *

(d) Fuel tanks must, so far as it is practicable, be designed, located, and installed so that no fuel is released in or near the fuselage, or near the engines, in quantities that would constitute a fire hazard in otherwise survivable emergency landing conditions, and—

(1) Fuel tanks must be able to resist rupture and retain fuel under ultimate hydrostatic design conditions in which the pressure P within the tank varies in accordance with the formula:

P = KρgL

Where—

P = fuel pressure at each point within the tank

ρ = typical fuel density

g = acceleration due to gravity

L = a reference distance between the point of pressure and the tank farthest boundary in the direction of loading

K = 4.5 for the forward loading condition for those parts of fuel tanks outside the fuselage pressure boundary

K = 9 for the forward loading condition for those parts of fuel tanks within the fuselage pressure boundary, or that form part of the fuselage pressure boundary

K = 1.5 for the aft loading condition

K = 3.0 for the inboard and outboard loading conditions for those parts of fuel tanks within the fuselage pressure boundary, or that form part of the fuselage pressure boundary

K = 1.5 for the inboard and outboard loading conditions for those parts of fuel tanks outside the fuselage pressure boundary

K = 6 for the downward loading condition

K = 3 for the upward loading condition

(2) For those parts of wing fuel tanks near the fuselage or near the engines, the greater of the fuel pressures resulting from paragraphs (d)(2)(i) or (d)(2)(ii) of this section must be used:

(i) The fuel pressures resulting from paragraph (d)(1) of this section, and

(ii) The lesser of the two following conditions:

(A) Fuel pressures resulting from the accelerations specified in § 25.561(b)(3) considering the fuel tank full of fuel at maximum fuel density. Fuel pressures based on the 9.0g forward acceleration may be calculated using the fuel static head equal to the streamwise local chord of the tank. For inboard and outboard conditions, an acceleration of 1.5g may be used in lieu of 3.0g as specified in § 25.561(b)(3).

(B) Fuel pressures resulting from the accelerations as specified in § 25.561(b)(3) considering a fuel volume beyond 85 percent of the maximum permissible volume in each tank using the static head associated with the 85 percent fuel level. A typical density of the appropriate fuel may be used. For inboard and outboard conditions, an acceleration of 1.5g may be used in lieu of 3.0g as specified in § 25.561(b)(3).

(3) Fuel tank internal barriers and baffles may be considered as solid boundaries if shown to be effective in limiting fuel flow.

(4) For each fuel tank and surrounding airframe structure, the effects of crushing and scraping actions with the ground must not cause the spillage of enough fuel, or generate temperatures that would constitute a fire hazard under the conditions specified in § 25.721(b).

(5) Fuel tank installations must be such that the tanks will not rupture as a result of the landing gear or an engine pylon or engine mount tearing away as specified in § 25.721(a) and (c).

* * * * *

8. Revise § 25.994 to read as follows:

§ 25.994 Fuel system components.

Fuel system components in an engine nacelle or in the fuselage must be protected from damage that could result in spillage of enough fuel to constitute a fire hazard as a result of a wheels-up landing on a paved runway under each of the conditions prescribed in § 25.721(b).

Issued under authority provided by 49 U.S.C. 106(f), 44701(a), and 44703 in Washington, DC, on September 24, 2014.
Michael P. Huerta,
Administrator.

[FR Doc. 2014-23373 Filed 10-1-14; 8:45 am]

BILLING CODE 4910-13-P